DEPARTMENT OF DEFENSE

GENERAL SERVICES ADMINISTRATION

NATIONAL AERONAUTICS AND SPACE ADMINISTRATION

48 CFR Chapter 1

[Docket No. FAR-2023-0051, Sequence No. 4]

Federal Acquisition Regulation; Federal Acquisition Circular 2023-05; Small Entity Compliance Guide

AGENCY: Department of Defense (DoD), General Services Administration (GSA), and National Aeronautics and Space Administration (NASA).

ACTION: Small Entity Compliance Guide (SECG).

SUMMARY: This document is issued under the joint authority of DoD, GSA, and NASA. This Small Entity Compliance Guide has been prepared in accordance with section 212 of the Small Business Regulatory Enforcement Fairness Act of 1996. It consists of a summary of the rules appearing in Federal Acquisition Circular (FAC) 2023-05, which amends the Federal Acquisition Regulation (FAR). Interested parties may obtain further information regarding these rules by referring to FAC 2023-05, which precedes this document.

DATES: August 8, 2023.

ADDRESSES: The FAC, including the SECG, is available at https://www.regulations.gov.

FOR FURTHER INFORMATION CONTACT: For clarification of content, contact the analyst whose name appears in the table below. Please cite FAC 2023-05 and the FAR Case number. For information pertaining to status or publication schedules, contact the Regulatory Secretariat Division at 202-501-4755 or GSARegSec@gsa.gov. An asterisk (*) next to a rule indicates that a regulatory flexibility analysis has been prepared.

Rules Listed in FAC 2023-05
Item | Subject | FAR case | Analyst
*I | Use of Acquisition 360 to Encourage Vendor Feedback | 2017-014 | Delgado.
II | Small Disadvantaged Business Threshold | 2023-004 | Moore.
III | Update to ASSIST Database References | 2022-008 | Moore.
IV | Technical Amendments

SUPPLEMENTARY INFORMATION: Summaries for each FAR rule follow. For the actual revisions and/or amendments made by these FAR rules, refer to the specific item numbers and subjects set forth in the documents following these item summaries. FAC 2023-05 amends the FAR as follows:

Item I—Use of Acquisition 360 To Encourage Vendor Feedback (FAR Case 2017-014)

This final rule amends the FAR to implement the Acquisition 360 Survey tool, a voluntary online survey to elicit industry feedback on the preaward and debriefing processes in a consistent and standardized manner. Contracting officers may insert the provision into solicitations in accordance with agency procedures. However, because it is voluntary, the impact on offerors or contractors is expected to be minimal.

Item II—Small Disadvantaged Business Threshold (FAR Case 2023-004)

This final rule amends the FAR to update the net worth threshold for the owners of small disadvantaged business concerns to align with SBA's regulations, and updates obsolete FAR citations to certain SBA regulations.

Item III—Update to ASSIST Database References (FAR Case 2022-008)

This final rule amends the FAR to update obsolete contact information, web addresses, and office titles necessary to obtain Federal and Defense specifications and standards from the DoD Acquisition Streamlining and Standardization Information System (ASSIST) website or, for Defense documents not available in ASSIST, from the Defense Standardization Program Office. These updates will ensure offerors have the most current information with which to obtain both Federal and Defense specifications and standards that are referenced in an agency's solicitation. The final rule will not have a significant economic impact on a substantial number of small entities because it simply updates contact information, web addresses and office titles in existing regulations.

Item IV—Technical Amendments

Administrative change is made at FAR 52.212-3.

William F. Clark,
Director, Office of Government-wide Acquisition Policy, Office of Acquisition Policy, Office of Government-wide Policy.

[FR Doc. 2023-16662 Filed 8-7-23; 8:45 am]

BILLING CODE 6820-EP-P